DEPARTMENT OF THE INTERIOR

Bureau of Land Management

[UT-080-06-1310-EJ]

Notice of Availability of a Final Environmental Impact Statement for the Resource Development Group Uinta Basin Natural Gas Project, Uintah County, UT

AGENCY: Bureau of Land Management, Department of Interior.

ACTION: Notice of availability.

SUMMARY: Under the National Environmental Policy Act (NEPA), the Federal Land Policy and Management Act of 1976 (FLPMA) and associated regulations, the Bureau of Land Management (BLM) announces the availability of a Final Environmental Impact Statement (FEIS) for the Resource Development Group Uinta Basin Natural Gas Project proposed by the Resource Development Group (RDG).

DATES: A decision on the proposed action will not be made until 30 days after the date EPA publishes this notice in the Federal Register (FR). Written comments may be submitted during this 30-day period.

ADDRESSES: Copies of the FEIS are available for public inspection at the following BLM office locations: Bureau of Land Management, Utah State Office 440 West 200 South, Suite 500, Salt Lake City, UT 84101 and the Bureau of Land Management, Vernal Field Office, 150 South 500 East, Vernal, UT 84078.

FOR FURTHER INFORMATION CONTACT: Stephanie Howard, Project Manager, BLM Vernal Field Office 170 South 500 East, Vernal, UT 84078. Ms. Howard may also be reached at 435-781-4469.

SUPPLEMENTARY INFORMATION: An Environmental Assessment (EA) was originally published in February 1999. A Decision Record (DR)/Finding of No Significant Impact (FONSI) was signed by the BLM on January 29, 1999. Subsequent to its decision, the BLM received 12 requests for a State Director Review and one request for a stay of the DR/FONSI. A stay was issued until April 16, 1999 and subsequently extended, pending a thorough review of the requests received. Those requesting the review and stay questioned the nature and extent of impacts disclosed in the EA and the validity of the DR/FONSI. On May 21, 1999, the DR/FONSI was vacated and the proposal was remanded to the BLM, Vernal Field Office (VFO) for the preparation of an environmental impact statement (EIS). RDG operators submitted their Proposed Action to the BLM on September 10, 1999, and the Notice of Intent was published in the Federal Register on October 22, 1999 (64 FR 57122). A notice of availability of the Draft EIS (DEIS) and a 45-day comment period was published in the FR on August 8, 2003.

The BLM prepared the FEIS to assess the environmental and economic impacts associated with natural gas development in the Uinta Basin, Utah. The FEIS is a complete document. It includes Section 7 consultation and Biological Opinion from the FWS, plus a presentation of substantive comments received on the DEIS. The FEIS also includes the BLM's responses to these comments and changes to the text in response to the comments. Changes were made to clarify, correct and/or expand information to aid the public's understanding of the proposed project, reasonable alternatives and their effects of the environment.

The FEIS analyzes four alternatives for managing natural gas development on private, State of Utah, and BLM-administered lands.

Alternative 1—The Proposed Action—consists of the development of 423 natural gas wells, access roads, support facilities, a transmission pipeline, and a compressor station within the 79,914 acres project area. Alternative 2—Additional Wildlife Considerations—would incorporate the same construction, operational, decommissioning, and reclamation components as the Proposed Action, with the addition of environmental considerations that could require the relocation of well pads, roads, and ancillary facilities within the lease, or restrict development during certain periods of the year, or require special construction, operational, and reclamation methods to reduce potential environmental impacts. Alternative 3—Additional Environmental Considerations—would incorporate the same operational components as the Alternative 1 and the same environmental considerations as Alternative 2 as well as the expansion of the mule deer winter range protection boundary and the application of United States Fish and Wildlife Service recommended guidelines for raptor protection. Under this alternative, 50 fewer wells would be drilled over the life of the project when compared to the Alternatives 1 and 2 (i.e., only 373 wells). Alternative 4—No Action—would allow current land use practices including existing oil and gas production to continue. It was assumed that 55 wells would be drilled over the 20 year life of the project, under the No Action Alternative. The wells would be drilled under the Authority of the Book Cliffs Resource Management Plan and the terms and conditions of oil and gas leases already held by RDG.

The 45-day comment period for the DEIS ended on September 22, 2003, although agency comment letters were accepted after that date. Comments were received from 21 individuals and/or organizations during public comment process.

Public comments addressed a broad range of issues. The issues, with the number of comments for each item in parentheses, are as follows: NEPA process (15), purpose and need (9), and alternatives (21) mitigation (39), geology/minerals (1), water resources (10), air quality (14), soils/watershed/floodplains (3), vegetation (1), riparian/wetland areas (2), wildlife (14), special status species (7), cultural resources (7), paleontological resources (1), recreation (4), wilderness characteristics (7), socio-economics (5), and miscellaneous (6). Public comments resulted in the addition of clarifying text, but did not significantly change the analysis of the FEIS.

Consistent with NEPA regulations, (40 CFR 1503.4(b)), all substantive comments on the Draft EIS received a response. Substantive comments includes those that challenge the information in the Draft EIS as being inaccurate or inadequate, or which offer specific information that may have a bearing on the decision. Comments that merely expressed an opinion for or against the project were not identified as a comment requiring a response. In cases where the comment was not substantive, but appeared to indicate that information in the EIS was either misunderstood or unclear, a response was prepared to clarify the information. Comments received on the Draft EIS and the responses to those comments are found in Appendix A of the Final EIS.

Based on the information contained in the FEIS, consultation with 13 Native American Tribes having historical and/or ethnological ties to the Uinta Basin, and the information received from the U.S. Fish and Wildlife Services, the BLM has identified Alternative 2—Additional Wildlife Considerations, as the Preferred Alternative.

Dated: April 20, 2006.
William Stringer,
Vernal Field Manager.

[FR Doc. E6-9941 Filed 6-22-06; 8:45 am]

BILLING CODE 4310-22-P